DEPARTMENT OF ENERGY

Federal Energy Regulatory Commission

Combined Notice of Filings #1

Take notice that the Commission received the following exempt wholesale generator filings:

Docket Numbers: EG20-20-000.

Applicants: Sunshine Valley Solar, LLC.

Description: Sunshine Valley Solar, LLC Notice of Self-Certification of Exempt Wholesale Generator Status.

Filed Date: 10/30/19.

Accession Number: 20191030-5087.

Comments Due: 5 p.m. ET 11/20/19.

Take notice that the Commission received the following electric rate filings:

Docket Numbers: ER06-78-003.

Applicants: PJM Interconnection, L.L.C.

Description: Compliance Filing for OPSI Annual Budget of PJM Interconnection, L.L.C.

Filed Date: 10/28/19.

Accession Number: 20191028-5193.

Comments Due: 5 p.m. ET 11/18/19.

Docket Numbers: ER10-2302-007.

Applicants: Public Service Company of New Mexico.

Description: Supplement to December 21, 2018 Triennial Market Power Analysis for the Southwest Region of Public Service Company of New Mexico.

Filed Date: 10/22/19.

Accession Number: 20191022-5028.

Comments Due: 5 p.m. ET 11/12/19.

Docket Numbers: ER10-2756-008; ER17-424-005.

Applicants: Griffith Energy LLC, Footprint Power Salem Harbor Development LP.

Description: Notice of Non-Material Change in Status of Griffith Energy LLC, et al. under ER10-2756, et al.

Filed Date: 10/30/19.

Accession Number: 20191030-5059.

Comments Due: 5 p.m. ET 11/20/19.

Docket Numbers: ER15-1344-007.

Applicants: PJM Interconnection, L.L.C.

Description: Compliance filing: Revisions to OATT, Sch 12-Appx A in compliance with Commission's 8/30/2019 Order to be effective 5/25/2015.

Filed Date: 10/29/19.

Accession Number: 20191029-5135.

Comments Due: 5 p.m. ET 11/19/19.

Docket Numbers: ER17-256-009; ER17-242-008; ER17-243-008; ER17-245-008; ER17-652-008.

Applicants: Darby Power, LLC, Gavin Power, LLC, Lawrenceburg Power, LLC, Waterford Power, LLC, Lightstone Marketing LLC.

Description: Notice of Non-Material Change in Status of Darby Power, LLC, et al.

Filed Date: 10/30/19.

Accession Number: 20191030-5038.

Comments Due: 5 p.m. ET 11/20/19.

Docket Numbers: ER19-2782-001.

Applicants: PJM Interconnection, L.L.C.

Description: Tariff Amendment: First Revised ISA SA No. 5461 & First Revised ICSA SA No. 5462; Queue No. Y3-092 to be effective 10/24/2019.

Filed Date: 10/29/19.

Accession Number: 20191029-5136.

Comments Due: 5 p.m. ET 11/19/19.

Docket Numbers: ER20-218-000.

Applicants: Puget Sound Energy, Inc.

Description: § 205(d) Rate Filing: BCS-Orchard Agreements to be effective 10/1/2019.

Filed Date: 10/29/19.

Accession Number: 20191029-5129.

Comments Due: 5 p.m. ET 11/19/19.

Docket Numbers: ER20-219-000

Applicants: Puget Sound Energy, Inc.

Description: § 205(d) Rate Filing: BCS-Roeder Agreements to be effective 10/1/2019.

Filed Date: 10/29/19.

Accession Number: 20191029-5133.

Comments Due: 5 p.m. ET 11/19/19.

Docket Numbers: ER20-220-000.

Applicants: Puget Sound Energy, Inc.

Description: § 205(d) Rate Filing: BP Westcoast Products Agreements to be effective 10/1/2019.

Filed Date: 10/29/19.

Accession Number: 20191029-5134.

Comments Due: 5 p.m. ET 11/19/19.

Docket Numbers: ER20-221-000.

Applicants: Public Service Company of Colorado.

Description: § 205(d) Rate Filing: PSC-BHS1-E&P-BigHorn-557-0.0.0-Agrmt to be effective 10/31/2019.

Filed Date: 10/30/19.

Accession Number: 20191030-5000.

Comments Due: 5 p.m. ET 11/20/19.

Docket Numbers: ER20-222-000.

Applicants: AEP Texas Inc.

Description: § 205(d) Rate Filing: AEPTX-Raymond Wind Farm 1st Amend and Restated GIA to be effective 10/24/2019.

Filed Date: 10/30/19.

Accession Number: 20191030-5069.

Comments Due: 5 p.m. ET 11/20/19.

Docket Numbers: ER20-223-000.

Applicants: AEP Texas Inc.

Description: § 205(d) Rate Filing: Taygete Energy Project 2nd Amend and Restated GIA to be effective 10/15/2019.

Filed Date: 10/30/19.

Accession Number: 20191030-5072.

Comments Due: 5 p.m. ET 11/20/19.

Docket Numbers: ER20-224-000.

Applicants: PJM Interconnection, L.L.C.

Description: § 205(d) Rate Filing: Revisions to OATT, Att. L & CTOA, Att. A re:Name Change Essential Power (OATT) to be effective 12/29/2019.

Filed Date: 10/30/19.

Accession Number: 20191030-5085.

Comments Due: 5 p.m. ET 11/20/19.

Docket Numbers: ER20-225-000.

Applicants: PJM Interconnection, L.L.C.

Description: § 205(d) Rate Filing: Revisions to CTOA, Att. A & OATT, Att. L re:Name Change Essential Power (CTOA) to be effective 12/29/2019.

Filed Date: 10/30/19.

Accession Number: 20191030-5088.

Comments Due: 5 p.m. ET 11/20/19.

Docket Numbers: ER20-226-000.

Applicants: Alabama Power Company.

Description: § 205(d) Rate Filing: Amendment to Twiggs County Solar (Twiggs Solar) LGIA to be effective 9/27/2019.

Filed Date: 10/30/19.

Accession Number: 20191030-5096.

Comments Due: 5 p.m. ET 11/20/19.

Docket Numbers: ER20-227-000.

Applicants: Jersey Central Power & Light Company, PJM Interconnection, L.L.C.

Description: § 205(d) Rate Filing: Jersey Central Power & Light Company Revenue Requirement to be effective 1/1/2020.

Filed Date: 10/30/19.

Accession Number: 20191030-5097.

Comments Due: 5 p.m. ET 11/20/19.

Docket Numbers: ER20-228-000.

Applicants: Alabama Power Company.

Description: § 205(d) Rate Filing: Cooperative Energy NITSA Amendment Filing (adding Frank Snell DP) to be effective 10/3/2019.

Filed Date: 10/30/19.

Accession Number: 20191030-5099.

Comments Due: 5 p.m. ET 11/20/19.

Docket Numbers: ER20-229-000.

Applicants: Alabama Power Company.

Description: § 205(d) Rate Filing: PowerSouth NITSA Amendment Filing (re-add CAEC Enterprise DP) to be effective 9/25/2019.

Filed Date: 10/30/19.

Accession Number: 20191030-5100.

Comments Due: 5 p.m. ET 11/20/19.

Docket Numbers: ER20-230-000.

Applicants: New York State Electric & Gas Corporation.

Description: § 205(d) Rate Filing: NYSEG-DCEC Attachment C Annual Update to be effective 1/1/2020.

Filed Date: 10/30/19.

Accession Number: 20191030-5102.

Comments Due: 5 p.m. ET 11/20/19.

Docket Numbers: ER20-231-000.

Applicants: PacifiCorp.

Description: § 205(d) Rate Filing: MDU A&R Interconnection Agmt Rev 3 to be effective 12/30/2019.

Filed Date: 10/30/19.

Accession Number: 20191030-5107.

Comments Due: 5 p.m. ET 11/20/19.

Docket Numbers: ER20-232-000.

Applicants: PJM Interconnection, L.L.C.

Description: § 205(d) Rate Filing: First Revised ISA, SA No. 1803; Queue No. AE2-132 to be effective 9/30/2019.

Filed Date: 10/30/19.

Accession Number: 20191030-5112.

Comments Due: 5 p.m. ET 11/20/19.

Docket Numbers: ER20-233-000.

Applicants: Otter Tail Power Company.

Description: § 205(d) Rate Filing: Revisions to Operating Services Agreement with CPEC, Service Agreement No. 54 to be effective 1/1/2020.

Filed Date: 10/30/19.

Accession Number: 20191030-5117.

Comments Due: 5 p.m. ET 11/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2019.
Nathaniel J. Davis, Sr.,
Deputy Secretary.

[FR Doc. 2019-24162 Filed 11-5-19; 8:45 am]

BILLING CODE 6717-01-P